DEPARTMENT OF COMMERCE

National Oceanic and Atmospheric Administration

[I.D. 070505A]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, the Assistant Regional Administrator proposes to recommend that an EFP be issued to test gear modification to reduce bycatch in the NE multispecies fishery that would allow three commercial fishing vessels to conduct fishing operations that are otherwise restricted by the regulations governing the fisheries of the Northeastern United States. The EFP would allow for exemptions from the FMP as follows: The Gulf of Maine (GOM) minimum mesh size requirements. Initially, the applicant requested an EFP to conduct research during May to July 15, 2005, and requested an exemption from the regulations pertaining to the GOM Rolling Closure Areas II and III at § 648.81(f)(1)(ii) and (iii), respectively. Due to an oversight, exemptions from GOM minimum mesh size requirements and from the GOM Rolling Closure Area IV (§ 648.81(f)(1)(iv)) were omitted from the May 16, 2005 Federal Register notice (70 FR 25814) announcing the EFP for the project. This revision proposes a GOM minimum mesh size exemption (the GOM Rolling Closure Area exemptions would no longer be necessary due to the timing of this action) and would extend the duration of the project to August 12, 2005.

Regulations under the Magnuson-Stevens Fishery Conservation and Management Act require publication of this notification to provide interested parties the opportunity to comment on applications for proposed EFPs.

DATES: Comments must be received on or before July 25, 2005.

ADDRESSES: Written comments should be sent to Patricia A. Kurkul, Regional Administrator, NMFS, Northeast Regional Office, 1 Blackburn Drive, Gloucester, MA 01930. Mark the outside of the envelope “Comments on the Manomet Rigid Mesh EFP Proposal Revision.” Comments may also be sent via fax to (978) 281-9135, or be submitted via e-mail to the following address: da5-85r@noaa.gov.

FOR FURTHER INFORMATION CONTACT: Karen Tasker, Fishery Management Specialist, phone (978) 281-9273.

SUPPLEMENTARY INFORMATION: Manomet Center for Conservation Sciences submitted an application for an EFP on March 16, 2005. The primary goal of the research is to test the effectiveness of inserting a rigid mesh panel between the extension and the codend of a trawl net to reduce regulatory discards while targeting yellowtail flounder, winter flounder, summer flounder, American plaice, and cod in inshore GOM waters.

The proposed rigid mesh panel would be 6.56 ft (2 m) in length and would be constructed of elongate meshes 2.36 inches (60 mm) wide and 7.87 inches (200 mm) long. This panel would be inserted between the extension and the codend of the net and would be the same diameter as the net. This project is proposed to occur in the Western GOM. The project would take place over 22 days from July 2005, to August 12, 2005, in two areas in the GOM waters, excluding the Western GOM Closure Area, as follows: (1) The area from 43°10′ N. lat. to the Maine shoreline, and from 69°30′ W. long. to the Maine shoreline; and (2) the area from 42°00′ N. lat. to 42°30′ N. lat., and from 70°00′ W. long. to the Massachusetts shoreline (approximately 70°40′ W. long.). Researchers have requested an exemption from the regulations establishing the minimum mesh size requirements because the net that they are proposing to use contains a panel of nonconforming mesh (neither diamond nor square in shape). Given that the overall area of the elongate mesh is larger than that of the square and diamond mesh, it is not anticipated that the panel would lead to the capture of a large number of undersized fish.

Researchers would film the interior and exterior of the net to verify proper construction and to document species' reactions to the net. Once the proper construction of the net has been verified, researchers would use the remainder of the trials to test the potential for bycatch reduction of the experimental panel by conducting alternating tows using the net with the experimental panel and a conventional codend, following an A-B-B-A pattern, comparing the catches between the two codends. No more than 110 tows total for the three vessels combined would be performed during at-sea trials. Under the previously issued EFP, researchers were authorized to conduct similar research over 30 days of sea trials; however, they were able to conduct only 8 days of sea trials.

The researchers anticipate that a total of 4,917 lb (2,230.3 kg) of fish, including 1,320 lb (598.7 kg) of cod, 550 lb (249.5 kg) of yellowtail flounder, 550 lb (249.5 kg) of winter flounder, and 550 lb (249.5 kg) of American plaice would be harvested throughout the course of the study. Other species that are anticipated to be caught are species of skates, smooth and spiny dogfish, sculpins, sea ravens, and sea robins. All legal-sized fish, within the possession limits, would be sold, with the proceeds going toward defraying the cost of vessel chartering fees. There would be no retention of undersized fish aboard the vessels and there is no anticipated impact on marine mammals or endangered species.

The applicant may request minor modifications and extensions to the EFP throughout the year. EFP modifications and extensions may be granted without further notice if they are deemed essential to facilitate completion of the proposed research, and minimal enough so as not to change the scope or impact of the initially approved EFP request.

Authority: 16 U.S.C. 1801 et seq.

Dated: July 5, 2005.
Alan D. Risenhoover
Acting Director, Office of Sustainable Fisheries, National Marine Fisheries Service.

[FR Doc. E5-3602 Filed 7-7-05; 8:45 am]

BILLING CODE 3510-22-S